DEPARTMENT OF COMMERCE

National Oceanic and Atmospheric Administration

RIN 0648-XA61

Atlantic Highly Migratory Species (HMS); Atlantic Tuna Fisheries

AGENCY: National Marine Fisheries Service (NMFS), National Oceanic and Atmospheric Administration (NOAA), Commerce.

ACTION: Notice of public information meetings.

SUMMARY: NMFS announces public information meetings regarding the use of green-stick fishing gear in Atlantic tuna fisheries including bluefin tuna. The purpose of these meetings is to communicate details and issues related to gear authorization including gear configuration and definitions, quota management, catch reporting, and other related topics.

DATES: The meeting dates are:

1. June 19, 2007, 7 p.m. - 10 p.m., Manteo, NC.

2. June 20, 2007, 2 p.m. - 5 p.m., Silver Spring, MD.

3. June 21, 2007, 7 p.m. - 10 p.m., Foxboro, MA.

4. June 25, 2007, 7 p.m. - 10 p.m., Saint Petersburg, FL.

ADDRESSES: The meeting locations are:

1. Manteo - Roanoke Island Festival Park, 1 Festival Park, Manteo, NC 27954.

2. Silver Spring - NOAA/NMFS Headquarters (Building 3 Room 1311-B), 1315 East-West Highway, Silver Spring, MD 20910.

3. Foxboro - Boyden Library, 10 Bird Street, Foxboro, MA 02035.

4. Saint Petersburg - NOAA/NMFS Southeast Regional Office, 263 13th Avenue South, Saint Petersburg, FL 33701.

For copies of current regulations regarding green-stick gear use outlined in the Consolidated HMS Fishery Management Plan (FMP) and the Guide for Complying with the Atlantic Tunas, Swordfish, Sharks, and Billfish Regulations, contact Margo Schulze-Haugen, Chief, HMS Management Division, 1315 East-West Highway, Silver Spring, MD 20910 or at (301) 713-1917 (fax). These documents are also available on the internet at http://www.nmfs.noaa.gov/sfa/hms.

FOR FURTHER INFORMATION CONTACT: Randy Blankinship at 727-824-5399 or 727-824-5398 (fax).

SUPPLEMENTARY INFORMATION: NMFS will hold public information meetings to discuss details related to the use of green-stick fishing gear for Atlantic tunas including bluefin tuna. The purpose of these meetings is to communicate details and issues related to gear authorization including gear configuration and definitions, quota management, catch reporting and other related topics.

In the Draft Consolidated HMS FMP, NMFS preferred an alternative to authorize green-stick fishing gear for the commercial harvest of Atlantic bigeye, albacore, yellowfin, and skipjack (BAYS) tunas; however, NMFS did not select this alternative as preferred in the Final Consolidated HMS FMP (October 2, 2006; 71 FR 58058). The intent of the draft preferred alternative was to allow commercial tuna handgear fishermen targeting BAYS tunas with green-stick fishing gear to increase the number of hooks on their gear from two hooks to no more than 10 hooks. The draft preferred alternative would have also prohibited commercial vessels using or possessing green-sticks from retaining or possessing BFT on board.

During public comment on the Draft Consolidated HMS FMP (71 FR 58058, October 2, 2006), NMFS received comments ranging from opposition to the draft alternative to support for it. The comments that NMFS received included those that expressed confusion over the current regulatory regime; concern over the need for better reporting, monitoring, and overall data collection for this gear-type; a desire to land bluefin tuna with the gear; and the need for further understanding of the technical nature of the gear itself. Based on these comments, NMFS decided to clarify the currently allowed use of the gear in the Final Consolidated HMS FMP rather than authorize and define the gear in a manner that may cause further confusion and have unintended negative consequences to the fishery and the resource.

Currently, green-stick fishing gear meets the definitions for longline or handgear depending on the configuration and may only be used aboard vessels possessing the permits necessary to use longline or handgear. Authorization of green-stick fishing gear for Atlantic tunas could provide for less restrictive use of green-sticks when and where appropriate.

Special Accommodations

These meetings are physically accessible to people with disabilities. Requests for sign language interpretations or other auxiliary aids should be directed to Randy Blankinship at 727-824-5399 at least 7 days prior to the meeting.

Dated: May 30, 2007.
Alan D. Risenhoover,
Director, Office of Sustainable Fisheries, National Marine Fisheries Service.

[FR Doc. E7-11051 Filed 6-7-07; 8:45 am]

BILLING CODE 3510-22-S